DEPARTMENT OF HEALTH AND HUMAN SERVICES

Centers for Disease Control and Prevention

Advisory Committee to the Director (ACD), Centers for Disease Control and Prevention (CDC)—Ethics Subcommittee (ES)

In accordance with section 10(a)(2) of the Federal Advisory Committee Act (Pub. L. 92-463), the Centers for Disease Control and Prevention (CDC) announces the following meeting of the aforementioned subcommittee:

Time and Date: 1 p.m.-1:30 p.m., October 5, 2011.

Place: Teleconference.

Status: Open to the public, limited only by availability of telephone ports. The public is welcome to participate during the public comment period. A public comment period is tentatively scheduled for 3 p.m.-3:15 p.m. To participate in the teleconference, please dial (877) 928-1204 and enter code 4305992.

Purpose: The ES will provide counsel to the ACD, CDC, regarding a broad range of public health ethics questions and issues arising from programs, scientists and practitioners.

Matter To Be Discussed: The ES will review workgroup progress on developing practical tools to assist state, tribal, local, and territorial health departments in their efforts to address public health ethics challenges.

The agenda is subject to change as priorities dictate.

Contact Person for More Information: Drue Barrett, PhD, Designated Federal Officer, ACD, CDC—ES, CDC, 1600 Clifton Road, NE., M/S D-50, Atlanta, Georgia 30333. Telephone (404) 639-4690. E-mail: dbarrett@cdc.gov.

The Director, Management Analysis and Services Office, has been delegated the authority to sign Federal Register notices pertaining to announcements of meetings and other committee management activities, for both the Centers for Disease Control and Prevention and the Agency for Toxic Substances and Disease Registry.

Dated: August 31, 2011.
Elaine L. Baker,
Director, Management Analysis and Services Office, Centers for Disease Control and Prevention.

[FR Doc. 2011-22931 Filed 9-7-11; 8:45 am]

BILLING CODE 4163-18-P